DEPARTMENT OF TRANSPORTATION

Surface Transportation Board

[STB Docket No. AB-1029 (Sub-No. 1X)]

San Diego & Imperial Valley Railroad Company, Inc.—Discontinuance of Service Exemption—in San Diego County, CA

On January 29, 2009, San Diego & Imperial Valley Railroad Company, Inc. (SDIV) filed with the Surface Transportation Board (Board) a petition under 49 U.S.C. 10502 for exemption from the provisions of 49 U.S.C. 10903 to permit SDIV to discontinue service over a 1.35-mile line of railroad between milepost 19.85 and milepost 21.2 in the vicinity of Escondido, in San Diego County, CA.¹ The line traverses U.S. Postal Zip Codes 92025 and 92029 and includes the station of Escondido.

¹ SDIV leased the line from BNSF Railway Company (BNSF). According to SDIV, BNSF has terminated that lease and replaced SDIV as the operator of the line. The new operator is Pacific Sun Railroad, L.L.C (Pacific Sun). See Pacific Sun Railroad, L.L.C.—Lease and Operation Exemption—BNSF Railway Company, STB Finance Docket No. 35173 (STB served Oct. 3, 2008) (authorizing Pacific Sun to lease and operate approximately 21.5 miles of BNSF Railway Company's rail lines and freight rail easement, including the segment at issue here).

SDIV states that the line does not contain federally granted rights-of-way. Any documentation in SDIV's possession will be made available promptly to those requesting it.

The interest of railroad employees will be protected by the conditions set forth in Oregon Short Line R. Co.—Abandonment-Goshen, 360 I.C.C. 91 (1979).

By issuance of this notice, the Board is instituting an exemption proceeding pursuant to 49 U.S.C. 10502(b). A final decision will be issued by May 19, 2009.

Any offer of financial assistance (OFA) for subsidy under 49 CFR 1152.27(b)(2) will be due no later than 10 days after service of a decision granting the petition for exemption. Each OFA must be accompanied by a $1,500 filing fee. See 49 CFR 1002.2(f)(25).

Because this is a discontinuance proceeding and not an abandonment, trail use/rail banking and public use conditions are not appropriate. Nor is environmental or historic documentation required under 49 CFR 1105.6(c)(2) and 1105.8(b), respectively.

All filings in response to this notice must refer to STB Docket No. AB-1029 (Sub-No. 1X) and must be sent to: (1) Surface Transportation Board, 395 E Street, SW., Washington, DC 20423-0001; and (2) Louis E. Gitomer, 600 Baltimore Avenue, Suite 301, Towson, MD 21204-4022. Replies to the petition are due on or before March 10, 2009.

Persons seeking further information concerning discontinuance procedures may contact the Board's Office of Public Assistance, Governmental Affairs, and Compliance at (202) 245-0238 or refer to the full discontinuance regulations at 49 CFR part 1152. Assistance for the hearing impaired is available through the Federal Information Relay Service (FIRS) at 1-800-977-8339.

Board decisions and notices are available on our Web site at “http://www.stb.dot.gov.”

Decided: February 10, 2009.
By the Board, David M. Konschnik, Director, Office of Proceedings.
Kulunie L. Cannon,
Clearance Clerk.

[FR Doc. E9-3194 Filed 2-17-09; 8:45 am]

BILLING CODE 4915-01-P